DEPARTMENT OF TRANSPORTATION

Federal Motor Carrier Safety Administration

Qualification of Drivers; Exemption Applications; Vision

AGENCY: Federal Motor Carrier Safety Administration (FMCSA), DOT.

ACTION: Notice of denials.

SUMMARY: The FMCSA announces that 41 individuals were denied exemptions from the Federal vision standards applicable to interstate truck drivers and the reasons for the denials. The FMCSA has statutory authority to exempt individuals from vision standards if the exemptions granted will not compromise safety. The agency has concluded that granting these exemptions does not provide a level of safety that will equal or exceed the level of safety maintained without the exemptions for these commercial drivers.

FOR FURTHER INFORMATION CONTACT: Sandra Zywokarte, Office of Bus and Truck Standards and Operations, (MC-PSD), 202-366-2987, Department of Transportation, FMCSA, 400 Seventh Street, SW., Washington, DC 20590-0001. Office hours are from 7:45 a.m. to 4:15 p.m., e.t., Monday through Friday, except Federal holidays.

SUPPLEMENTARY INFORMATION:

Background

Under 49 U.S.C. 31315 and 31136(e), FMCSA may grant an exemption from the Federal vision standard for a renewable 2-year period if it finds such an exemption would likely achieve a level of safety that is equivalent to, or greater than, the level that would be achieved absent such an exemption. (49 CFR 391.41(b)(10))

Accordingly, FMCSA evaluated 41 individual exemption requests on their merits and made a determination that these applicants do not satisfy the criteria established to demonstrate that granting an exemption is likely to achieve an equal or greater level of safety that exists without the exemption. Each applicant has, prior to this notice, received a letter of final disposition on his/her individual exemption request. Those decision letters fully outlined the basis for the denial and constitute final agency action. The list published today summarizes the agency's recent denials as required under 49 U.S.C. 31315(b)(4) by periodically publishing names and reason for denials.

The following 25 applicants lacked sufficient recent driving experience over three years: Becotte, Richard; Bodiford, Jr., Cecil; Cavendar, David; Clegg, Jr., Henry; Davidson, Donald; Day, Larry; Floyd, Jack; Harper, Norman; Herrboldt, Nathan; Johnson, Robert; Jones, Joe; Longcrier, Michael; McCandless, Jr., William; Petersen, Christian; Petty, Clarence; Phipps, Gary; Reed, Donna; Rosborough, Franklin; Russell, Michael; Shanks, Jr., Willis; Shaw III, Sam; Sheibley, Thomas; Wehner, Peter; Winters, Johnny; Young, Ronald.

Three applicants, Mr. Randall Benson, Ms. Darrlyn Price, and Mr. Steven Risley, do not have experience operating a commercial motor vehicle (CMV) and therefore presented no evidence from which FMCSA can conclude that granting the exemption is likely to achieve a level of safety equal to that existing without the exemption.

The following 6 applicants do not have 3 years of experience driving a CMV on public highways with the vision deficiency: Dean, Joseph; DiPasqua III, Louis; Kirkland, Willie; Osborne, Hudson; Pittman, Larry; Storm, Stacey.

Four applicants do not have 3 years recent experience driving a CMV with the vision deficiency: Gerdes, Donald; Webb, William; Moates, Tommy; Thompson, Ronald.

One applicant, Mr. Robert Aurandt, had more than two CMV moving violations during a 3-year period or while the application was pending. Each applicant is only allowed two moving citations.

One applicant, Mr. William Whitson, license was suspended during the 3-year period because of a moving violation. Applicants do not qualify for an exemption with a suspension during the 3-year period.

One applicant, Mr. Kenneth Walker, had two serious CMV violations within the 3-year period. Each applicant is allowed a total of two moving citations, of which only one can be serious.

Issued on: June 6, 2003.
Pamela M. Pelcovits,
Acting Associate Administrator for Policy and Program Development.

[FR Doc. 03-14696 Filed 6-10-03; 8:45 am]

BILLING CODE 4910-EX-P